DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January, 2001.

In order for an affirmative determination to be made and a certification of eligibility to apply for worker adjustment assistance to be issued, each of the group eligibility requirements of Section 222 of the Act must be met.

(1) That a significant number of proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,451; Chicago Lock, Pleasant Prairie, WI

TA-W-38,419; John Campbell & Co., Inc., Perkasie, PA

TA-W-37,917; Dana Corp., Spicer Heavy Axle & Brake Div., Marion Forge, Marion, OH

TA-W-38,382; Cherokee Finishing Co., Spartan International, Gaffney, SC

In the following cases, the investigation revealed that the criteria for eligibility have not been met for the reasons specified.

TA-W-38,197; Grandoe Corp (The), Gloversville, NY

TA-W-38,488; Cone Decorative Fabarics, New York, NY

TA-W-38,332; Pronav Ship Management, Inc., Greenwich, CT

TA-W-38,548; Timberland Logging, Ashland, OR

TA-W-38,506; Homestake Mining Co., Sparks, NV

TA-W-38,449; Hasbro Manufacturing Service, El Paso, TX

TA-W-38,473; Software Spectrum, Inc., Garland, TX

The workers firm does not produce an article as required for certification under Section 222 of the Trade Act of 1974.

TA-W-38,240; Ashby Industries, Inc., Martinsville, VA

TA-W-38,517; Cooper Standard Automotive, Fluid Systems Div., Mio, MI

TA-W-38,396; Philips Electronics North America Corp., Philips Display Components Co., Ottawa, OH

Increased imports did not contribute importantly to worker separations at the firm.

TA-W-38,490; Latrobe Brewing Co., Latrobe, PA

TA-W-38,431; Warm Springs Forest Products Industries, Warm Springs, OR

The investigation revealed that criteria (2) has not been met. Sales or production did not decline during the relevant period as required for certification.

Affirmative Determinations for Worker Adjustment Assistance

The following certifications have been issued; the date following the company name and location of each determination references the impact date for all workers of such determination.

TA-W-38,385; Findlay Industries, Morrison Div., Morrison, TN: November 22, 1999.

TA-W-38,297; Qwik Tool Manufacturing, Magna Div., Lexington, KY: September 7, 1999.

TA-W-38,366; Jeld Wen, Inc., Bend Millwork Co., Bend, OR: November 7, 1999.

TA-W-38,394; Velvac, Inc., New Berlin, WI: November 24, 1999.

TA-W-38,260 & A; Austin Apparel, Lancaster Plant, lancaster, KY & Springfield Plant, Springfield, KY: October 18, 1999.

TA-W-38,280 & A; Snyder Walls Industries, Inc., Snyder, TX & Walls Industries, Inc., Boaz, AL: October 25, 1999.

TA-W-38,198; Crown Cork and Seal Co., Inc., Plant #31, Perrysburg, OH: October 6, 1999.

TA-W-38,485; Forecaster of Boston, Boston, MA: December 7, 1999.

TA-W-38,504; Warren Logging, Gold Hill, OR: December 12, 1999.

TA-W-38,482; Augusta Sportswear, Inc., Millen Plant, Millen, GA: December 6, 1999.

TA-W-38,425; Ameripol Synpol Corp., Port Meches, TX: November 30, 1999.

TA-W-38,497; EGS/O-Z Gedney, LaGrange, GA: December 14, 1999.

TA-W-38,541; Ametek, United States Gauge Div., Bartow, FL: December 21, 1999.

TA-W-38,514; Nutone, Inc., Coppell, TX: December 21, 1999.

TA-W-38,299; Originals Bi-Judi, Inc., Tolleson, AZ: October 31, 2000.

TA-W-38,084; Philips CSI, Inc., Lancaster, PA: August 14, 1999.

TA-W-38,393; Tyco Electronics, Automotive Electronics, Chesterfield, MI: November 22, 1999.

TA-W-38,281; Five Rivers Electronic Innovations, LLC, Greenville, TN: October 23, 1999.

TA-W-38,357; Jockey International, Inc., Belzoni, MS: November 9, 1999.

TA-W-38,409; Money's Foods U.S., Inc., Money's Mushrooms LTD, Blandon, PA: December 1, 1999.

TA-W-38,426; Universal Furniture Limited, Marion, NC: November 30, 1999.

TA-W-38,241; Micromatic Textron, Holland, MI: October 10, 1999.

TA-W-38,544; Bausch & Lomb, Sarasota, FL: December 27, 1999.

TA-W-38,257; Pine State Knitwear Co., Inc., Stateville, NC: October 13, 1999.

TA-W-38,518; Beltex Corp., Claiborne Plant, New Tazewell, TN: December 20, 1999.

TA-W-38,411; Miller Shingle Co., Inc., Enterprise Lumber Div., Arlington Sawmill, Arlington Reman/Planer Mill, Arlington OSO Sawmill Plant, Arlington, WA: November 30, 1999.

TA-W-38,480; Delevan Spray Technologies, Monroe, NC: December 26, 1999.

TA-W-38,421 & A, B; Wiscassett Mills Co., Kannapolis, NC, Concord, NC and Albermarle, NC: November 29, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of January 2001.

In order for an affirmative determination to be made and a certification of eligibility to apply for NAFTA-TAA the following group eligibility requirements of Section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases in imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04295; Jeld Wen, Inc., Bend Millwork Co., Bend, OR

NAFTA-TAA-04348; John Campbell & Co., Inc., Perkasie, PA

NAFTA-TAA-04382; Chicago Lock, Pleasant Prairie, WI

NAFTA-TAA-04216; Ashby Industries, Inc., Martinsville, VA

NAFTA-TAA-04356; Ameripol Synpol Corp., Port Nechs, TX

NAFTA-TAA-04266; Originals Bi-Judi, Inc., Tolleson, AZ

NAFTA-TAA-04357; Oxford Automotive, Argos, IN

NAFTA-TAA-04290; Central Industries of Indiana, Inc., Greenwood, Arkansas Div., Greenwood, AR

NAFTA-TAA-04423; Tensolite Interconnect Systems, Essex Jct., Vermont

The investigation revealed that the criteria for eligibility have not been met for the reasons specified.

NAFTA-TAA-04453; Sacramento Bag Manufacturing Co., Sacramento, CA

NAFTA-TAA-04386; Hasbro Manufacturing Services, El Paso, TX

The investiation revealed that workers of the subject firm did not produce an article within the meaning of Section 250(a) of the Trade Act, as amended.

NAFTA-TAA-04358; Warm Springs Forest Lumber Products Industries, Warm Springs, OR

NAFTA-TAA-04401; Latrobe Brewing Co., Latrobe, PA

The investigation revealed that criteria (2) has not been met. Sales or production, or both, of such firm or subdivision did not decrease during the relevant period.

Affirmative Determinations NAFTA-TAA

NAFTA-TAA-04340; Findlay Industries, Morrison Div., Morrison, TN: November 22, 1999.

NAFTA-TAA-04311; Cooper-Standard Automotive, Fluid Systems Div., Mio, MI: November 9, 1999.

NAFTA-TAA-04400; Respiratory Support Products, Inc., Irvine, CA: October 30, 1999.

NAFTA-TAA-04264 & A; Austin Apparel, Lancaster Plant, Lancaster, KY & Springfield Plant, Springfield, KY: October 18, 1999.

NAFTA-TAA-04381; Warren Logging, Gold Hill, OR: December 14, 1999.

NAFTA-TAA-04424; Robert Bosch Corp., Bosch Automotive Motors, Hendersonville, TN: January 3, 2000.

NAFTA-TAA-04396; Augusta Sportswear, Inc., Millen Plant, Millen, GA: December 6, 1999.

NAFTA-TAA-04336; Philips Electronics North America Corp., Philips Display Components Co., Ottawa, OH: November 10, 1999.

NAFTA-TAA-04330; Davidson Cotton Co., Abouchar Div., Brooklyn, NY: November 27, 1999.

NAFTA-TAA-04379; ABC-NACO, Inc., National Castings Div., Melrose Park, IL: December 13, 1999.

NAFTA-TAA-04331; Tyco Electronics, Automotive Electronics, Chesterfield, MI: November 20, 1999.

NAFTA-TAA-04363; Sherwood Dash USA, Rancho Cucamonga, CA: December 4, 1999.

NAFTA-TAA-04391; Screw Machine Technologies, Inc., “SMT, Inc.”, Georgetown, KY: November 22, 1999.

NAFTA-TAA-04247; Pine State Knitwear Co., Inc., Statesville, NC: October 13, 1999.

NAFTA-TAA-04349; Miller Shingle Co., Inc./Enterprise Lumber Div., Arlington Sawmill, Reman/Planer Mill, OSO Sawmill Plant, Arlington, WA: November 30, 1999.

NAFTA-TAA-04342; Daws Manufacturing Co., Inc., Pensacola, FL: November 25, 1999.

I hereby certify that the aforementioned determinations were issued during the month of January, 2001. Copies of these determinations are available for inspection in Room C-5311, U.S. Department of Labor, 200 Constitution Avenue NW., Washington, DC 20210 during normal business hours or will be mailed to persons who write to the above address.

Dated: February 1, 2001.
Edward A. Tomchick,
Director, Division of Trade Adjustment Assistance.

[FR Doc. 01-4124 Filed 2-16-01; 8:45 am]

BILLING CODE 4510-30-M